DEPARTMENT OF AGRICULTURE

Forest Service

Alpine County Resource Advisory Committee

AGENCY: Forest Service, USDA.

ACTION: Notice of Meeting.

SUMMARY: The Alpine County Resource Advisory Committee (RAC) will meet in Markleeville, CA. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is to review and recommend projects for year 3 and year 4 funding.

DATES: The meeting will be held on Tuesday May 24th, 2011, 6 p.m.

ADDRESSES: The meeting will be held in Alpine County at the Alpine Early Learning Center, 100 Foothill Road, Markleeville, CA 96120. Written comments may be submitted as described under SUPPLEMENTARY INFORMATION.

All comments, including names and addresses when provided, are placed in the record and are available for public inspection and copying. The public may inspect comments received at the Carson Ranger District Office, 1536 S. Carson Street, Carson City, NV 89701. Please call ahead to 775-884-8140 to facilitate entry into the building to view comments.

FOR FURTHER INFORMATION CONTACT: Daniel Morris, RAC Coordinator, USDA, Humboldt-Toiyabe National Forest, Carson Ranger District, 1536 S. Carson Street, Carson City, NV 89701 (775) 884-8140; e-mail danielmorris@fs.fed.us.

Individuals who use telecommunication devices for the deaf (TDD) may call the Federal Information Relay Service (FIRS) at 1-800-877-8339 between 8 a.m. and 8 p.m., Eastern Standard Time, Monday through Friday. Requests for reasonable accomodation for access to the facility or procedings may be made by contacting the person listed FOR FURTHER INFORMATION CONTACT.

SUPPLEMENTARY INFORMATION: The following business will be conducted: (1) Review and recommend funding allocation for proposed projects for 2010 and 2011 funding (2) Public Comment. Anyone who would like to bring related matters to the attention of the committee may file written statements with the committee staff before or after the meeting. The agenda will include time for people to make oral statements of three minutes or less. Individuals wishing to make an oral statement should request in writing by May 10th, 2011 to be scheduled on the agenda. Written comments and requests for time for oral comments must be sent to Daniel Morris, Alpine County RAC coordinator, 1536 S. Carson St. 89701, or by e-mail danielmorris@fs.fed.us, or via facsimile to 775-884-8199.

Dated: April 22, 2011.
Jeanne Higgins,
Forest Supervisor, Humboldt-Toiyabe National Forest.

[FR Doc. 2011-10843 Filed 5-3-11; 8:45 am]

BILLING CODE 3410-11-P